DEPARTMENT OF STATE

[Public Notice 6793]

Fine Arts Committee Notice of Meeting

The Fine Arts Committee of the Department of State will meet on November 6, 2009 at 10 a.m. in the Henry Clay Room of the Harry S. Truman Building, 2201 C Street, NW., Washington, DC. The meeting will last until approximately 11:30 a.m. and is open to the public.

The agenda for the committee meeting will include a summary of the work of the Fine Arts Office since its last meeting on April 30, 2009 and the announcement of gifts and loans of furnishings as well as financial contributions from January 1, 2009 through September 30, 2009.

Public access to the Department of State is strictly controlled and space is limited. Members of the public wishing to take part in the meeting should telephone the Fine Arts Office at (202) 647-1990 or send an e-mail to BurdenVK@State.gov by October 30 to make arrangements to enter the building. The public may take part in the discussion as long as time permits and at the discretion of the chairman.

Dated: October 1, 2009.
Marcee Craighill,
Secretary, Fine Arts Committee, Department of State.

[FR Doc. E9-25672 Filed 10-23-09; 8:45 am]

BILLING CODE 4710-35-P